DEPARTMENT OF HOUSING AND URBAN DEVELOPMENT

[Docket No. FR-4933-N-01]

Notice of Funding Availability for HOPE VI Neighborhood Networks Grants Fiscal Year 2003

AGENCY: Office of the Assistant Secretary for Public and Indian Housing, HUD.

ACTION: Notice of funding availability (NOFA).

Overview Information

A. Federal Agency Name: Department of Housing and Urban Development, Office of Public and Indian Housing.

B. Funding Opportunity Title: HOPE VI Neighborhood Networks Grants Fiscal Year 2003.

C. Announcement Type: Initial announcement.

D. Funding Opportunity Number: The Federal Register number for this NOFA is: FR-4933-N-01. The OMB approval number for this program is: 2577-0208.

E. Catalog of Federal Domestic Assistance (CFDA) Number: The CFDA number for this NOFA is 14-866, “Demolition and Revitalization of Severely Distressed Public Housing (HOPE VI)”:

F. Dates:

1. Application Due Date: The application due date is September 8, 2004. See the General Section of the SuperNOFA for application submission, delivery and timely receipt requirements.

2. Estimated Grant Award Date: The estimated award date will be no later than September 30, 2004.

Full Text Of Announcement

I. Funding Opportunity Description

Purpose of the Program. This NOFA announces the availability of approximately $5 Million in Fiscal Year (FY) 2003 funds to implement and expand a Neighborhood Networks program in support of public housing agency-owned (PHA) affordable housing.

A. Part of the HOPE VI Program

The Notice of Funding Availability for Revitalization of Severely Distressed Public Housing HOPE VI Revitalization and Demolition Grants; Fiscal Year 2003, as published in the Federal Register on October 21, 2003, page 60178 to 60276, Docket Number FR-4861-N-01 (HOPE VI NOFA), stated that funding for Neighborhood Networks within the HOPE VI program would be offered under a separate Neighborhood Networks NOFA. This is that NOFA.

B. Statutory Authority

1. The program authority for the HOPE VI Program is Section 24 of the United States Housing Act of 1937 Act (42 U.S.C. 1437v), as amended by Section 535 of the Quality Housing and Work Responsibility Act of 1998 (Pub. L. 105-276, 112 Stat. 2461, approved October 21, 1998), as amended.

2. The funding authority for Neighborhood Networks for HOPE VI Revitalization grantees is provided by the Consolidated Appropriations Resolution, 2003 (Pub. L 108-7, approved February 20, 2003), under Division K, Title II, Public and Indian Housing, Revitalization of Severely Distressed Public Housing (HOPE VI).

3. The FY2003 appropriation for HOPE VI allocated approximately $5 million for a Neighborhood Networks initiative for activities authorized in Section 24(d)(1)(G) of the Act, which provides for the establishment and operation of computer centers in public housing for the purpose of enhancing the self-sufficiency, employability, and economic self-reliance of public housing residents by providing them with onsite computer access and training resources. The HOPE VI Neighborhood Networks grant provides funding to be used in conjunction with the grantees' HOPE VI revitalization effort to enhance or create new Neighborhood Networks Centers (NNCs). The focus of the awards is to provide computer and Internet training and communication access centers for public housing and other low-income HOPE VI revitalization development residents.

C. Definition Of Terms

1. HOPE VI Neighborhood Networks Plan is a compilation of information about the demographics and digital needs of the HOPE VI Revitalization Development's residents, as well as the grantee's plan to develop and implement its Neighborhood Networks program. The Plan Guide is written in accordance with Form HUD-52775, “HOPE VI Neighborhood Networks Plan Guide,” a document that contains guidance to assist in the development of a HOPE VI Neighborhood Networks Plan.

2. Neighborhood Networks Centers (NNCs) are community centers or rooms that provide public housing and other low-income HOPE VI revitalization development residents access to computers and the Internet for the purpose of:

a. Training in digital technology, which consists of items such as interactive computer learning sessions, Internet web access, Internet web telecasts, and producing and receiving satellite broadcasts; and

b. Accessing information about community and supportive services.

3. Match. Means at least five percent of the requested grant amount is required to be donated from sources other than federal funding for Neighborhood Networks uses. Community Development Block Grant (CDBG) funds are considered local funds, not federal funds.

4. Neighborhood Networks Coordinator (NNC Coordinator) is a person who is responsible for coordinating proposed Neighborhood Networks activities, such as ensuring timely implementation in accordance with the Neighborhood Networks program.

a. Neighborhood Networks Coordinator Duties. The Neighborhood Networks Coordinator is responsible for:

(1) Ensuring that the NNC's programs achieve your application's goals and objectives.

(2) Marketing the program to residents;

(3) Assessing participating residents' needs, interests, skills, and job readiness;

(4) Assessing participating residents' needs for supportive services; e.g., childcare during NNC program classes, and transportation to the NNC for disabled residents;

(5) Designing and coordinating grant activities based on residents' needs;

(6) Monitoring the progress of program participants and evaluating the overall success of the program.

(7) Coordinating the type of Neighborhood Networks training provided to each participant with other available supportive services programs in an effort to ensure proper instructional level.

5. Nonprofit organization is an organization that is exempt from federal taxation. A nonprofit organization can be organized for charitable, religious, educational, scientific, literary, or other purposes.

6. Owner entity is the legal entity that holds title to real property that contains public housing units.

7. Person with disabilities means a person who:

a. Has a condition defined as a disability in Section 223 of the Social Security Act;

b. Has a developmental disability as defined in Section 102 of the Developmental Disabilities Assistance Bill of Rights Act; or

c. Is determined to have a physical, mental, or emotional impairment which:

(1) Is expected to be of long-continued and indefinite duration;

(2) Substantially impedes his or her ability to live independently; and

(3) Is of such a nature that such ability could be improved by more suitable housing conditions.

d. The term “person with disabilities” may include persons who have acquired immunodeficiency syndrome (HIV/AIDS) or any conditions arising from the etiologic agent for AIDS. In addition, no individual shall be considered a person with disabilities, for purposes of eligibility for low-income housing, solely on the basis of any drug or alcohol dependence.

e. The definition provided above for persons with disabilities is the proper definition for determining program qualifications. However, the definition of a person with disabilities contained in Section 504 of the Rehabilitation Act of 1973 and its implementing regulations must be used for the purpose of reasonable accommodation.

8. Procured Developer is a legal entity that has a contract or “Developer Agreement” with a Public Housing Agency (PHA) to finance, rehabilitate and/or construct housing units, community centers (if required), and to provide community and supportive services for a HOPE VI revitalization grantee.

9. Program means the HOPE VI Neighborhood Networks program that will be developed or expanded by the recipients of grant funds offered by this NOFA.

10. Project is the same as “low-income housing project” as defined in Section 3(b)(1) of the United States Housing Act of 1937 (42 U.S.C. 1437 et. seq.) (1937 Act).

11. Target Group means the group of residents and families that will be given the option of participating in programs at the grantee's Neighborhood Networks Center (NNC). See Section III.C. for group member requirements.

12. Surrounding Community means the area surrounding the NNC and should be limited to a distance wherein residents are likely to travel to the NNC. This distance varies by locality.

D. Program Description

1. This NOFA provides grants to qualified Public Housing Agencies (PHAs) to (1) update, maintain, and expand existing NNCs; or (2) establish new NNCs. This expansion or establishment may include construction, computer and information technology hardware, staffing, and services.

2. By providing access to computers and the Internet to public housing residents, NNCs offer access to a full range of supportive services that promote job training; reduction of welfare dependency; economic self-sufficiency; increased use of computer technology; expanded educational opportunities for residents; and access to health and nutrition information. NNCs also fulfill other public housing and other low-income HOPE VI revitalization development resident needs through access to information via computers and the Internet.

3. An NNC may be existing or new.

a. An existing NNC is:

(1) A computer lab or community technology center that serves residents of public housing and is already owned and operated by a PHA, nonprofit or procured developer, and which has not received prior Neighborhood Networks funding and therefore is not officially designated a HUD Public and Indian Housing (PIH) NNC; or

(2) A computer lab or community technology center officially designated a HUD PIH NNC by virtue of PIH funding received prior to award of this NOFA.

b. A new NNC is one that:

(1) Is not operational;

(2) Is in development; or

(3) Needs funding under this grant program to become fully operational and serve residents of public housing.

E. Eligible Activities

Funding from this NOFA may be expended on the following services, equipment, and improvements:

1. Information Technology Equipment. Purchase of computers, printers, network hardware, Internet connection hardware, software, and other peripheral equipment.

2. Services.

a. Increased computer and Internet access for residents during all phases of the HOPE VI revitalization process and grant term period, including services to those residents that are temporarily or permanently relocated using Housing Choice Vouchers (HCV).

b. Training courses related to computer and Internet use and technology;

c. Use of the NNC as a focus for computer and online access to information regarding community and supportive services; and

d. Creation of online groups whose purpose is to better connect residents to each other and the public housing revitalization process.

3. Physical Improvements.

a. The construction, renovation, conversion, wiring, and physical repair of current or proposed NNC space;

b. Architectural, engineering, and related professional services required to prepare architectural plans or drawings, write-ups, specifications, or inspections for the above physical improvements;

c. Modification to create a space that is accessible to persons with disabilities;

d. The construction, renovation, conversion, or joining of vacant dwelling units in a PHA development to create appropriate space for the equipment needs and activities of an NNC (such as computers, printers, and office space); and

e. The renovation or conversion of existing common areas in a PHA development to accommodate an NNC.

4. Maintenance and Insurance Costs. This includes installing and training in the use and maintenance of hardware and software, and obtaining insurance coverage for the space and equipment.

5. Security and Related Costs. This includes minor refitting and locks and other equipment for safeguarding the center.

6. Distance Learning Equipment Costs. Distance learning equipment (including the costs for video casting and purchase/lease/rental of distance learning equipment) provided the proposal indicates possibly working in a virtual setting with a college, university, or other educational organization. If a PHA operates more than one center, distance-learning equipment can be used to link one or more centers for courses being physically offered at a single site.

7. Administrative Costs. Administrative costs may include, but are not limited to, purchase of furniture, office equipment and supplies, salaries for resident employees hired as part of this grant program, quality assurance, local travel, and utilities.

F. SuperNOFA Reference

The subsection entitled “Funding Opportunity Description” in Section I. of the Notice of HUD's Fiscal Year 2004 Notice of Funding Availability (NOFA) Policy Requirements and General Section to the Super NOFA for HUD's Discretionary Programs (SuperNOFA), Docket No. FR-4900-N-01, published in the Federal Register on May 14, 2004 is hereby incorporated by reference.

II. Award Information

A. Available Funds. A total of $4,967,500 is available for funding which must be obligated in FY2004.

B. Number of Awards. This NOFA will result in approximately 20 awards.

C. Range of Amounts of Each Award. You may request up to $250,000.

D. Start Date, Period of Performance. The term of the grants that result from this NOFA will start on the date that the grant award document is signed by HUD and will continue for 54 months.

E. Type of Instrument. Grant Agreement.

F. Supplementation. Current HOPE VI Revitalization and HOPE VI Neighborhood Networks grantees may supplement their existing HOPE VI Neighborhood Networks program through this grant.

G. SuperNOFA Reference. Section II, “Funding Available,” of the SuperNOFA is hereby incorporated by reference.

III. Eligibility Information

A. Eligible Applicants

Eligible applicants include, and are limited to, current HOPE VI Revitalization grantees. Eligible applicants include all PHAs that are carrying out HOPE VI revitalization programs for severely distressed public housing, including economic development activities that promote the economic self-sufficiency of residents under the revitalization program in accordance with Section 24(d)(1)(G) of the United States Housing Act of 1937 (42 U.S.C. 1437, et seq.).

B. Cost Sharing or Match

1. Match

HUD is required by the Quality Housing and Work Responsibility Act (42 U.S.C. 1437v(c)(1)(A)) to include the requirement for matching funds for all HOPE VI-related grants. You are required to have in place a match of five percent of the requested grant amount in cash or in-kind donations. Applications that do not demonstrate the minimum five percent match will not be considered for funding.

a. Match donations must be firmly committed. “Firmly committed” means that the amount of match resources and their dedication to Neighborhood Networks activities must be explicit, in writing, and signed by a person authorized to make the commitment. The commitment must be in place at the time of award.

b. You may propose to use your own, non-public housing grant funds to meet the match requirement.

c. The PHA's staff time is not an eligible cash or in-kind match.

d. Funds from other federal assistance are not an eligible cash or in-kind match. CDBG funds are considered local funds, not federal assistance funds.

e. See Section IV.B. of this NOFA for match documentation requirements.

C. Other

1. Thresholds

a. NNC Location: If your NNC is not located within the boundaries of one of the public housing projects that are included in any of your HOPE VI revitalization developments, your application will not be rated or ranked and will be ineligible for funding. See Section I.C. of this NOFA for the definition of a project.

b. Target Group. If your target group includes residents other than public housing or other low-income HOPE VI revitalization development residents, your application will not be rated or ranked and will be ineligible for funding. See Section I.C. of this NOFA for the definition of Target Group.

c. Incorporation of Sections of SuperNOFA. The following subsections of Section III. of the SuperNOFA are hereby incorporated by reference:

(1) Dun and Bradstreet Data Universal Numbering System (DUNS) number requirement;

(2) Compliance with fair housing and civil rights laws;

(3) Conducting business in accordance with core values and ethical standards;

(4) Delinquent federal debts;

(5) Name check review;

(6) False statements;

(7) Prohibition against lobbying activities; and

(8) Debarment and suspension.

2. Match Commitment Letters/Memoranda Of Understanding (MOU)

If the commitment letter/MOU for any match funds/in-kind services is not included in the application and provided before the NOFA due date, the related match will not be considered. This is not a technical deficiency and cannot be corrected during the deficiency period. If the match is not met, the application will not be eligible for funding.

3. Program Requirements

a. Target Group Members: The target group is to be comprised of public housing and other low-income HOPE VI revitalization development residents.

b. Resident Needs. Programs offered by NNCs shall be designed to meet public housing residents' needs, by emphasizing:

(1) Helping residents transition from welfare to work;

(2) Assisting school-age children and youth with homework;

(3) Providing guidance and preparatory programming to high school students (or other interested residents) for postsecondary education (college or trade schools);

(4) Offering life-skills and job training for youth, adults, and seniors; and

(5) Providing access to health care information and other services as deemed necessary by results obtained from resident surveys.

c. Hiring a Neighborhood Networks Coordinator. You are required to hire a qualified Neighborhood Networks Coordinator to run the Neighborhood Networks program. The coordinator should have two years of experience in running a community technology center. The coordinator should be hired for the entire term of the grant.

d. Resident Assessment. You are required to assess residents' needs and interests so that program activities are designed to address their needs.

e. Sustainability. You are required to design the program to be sustainable after the grant term expires. This can be achieved through partnering.

f. Partnering. You are required to partner with other organizations, such as local businesses, schools, libraries, banks, and employment agencies, that will help you deliver computer- and Internet-related supportive services that fulfill residents' needs. These organizations can provide additional expertise, volunteers, office supplies, training materials, software, equipment, and other resources.

g. Charging for Services. The NNC may charge non-public housing/HOPE VI development organizations or individuals for services rendered, provided that the timing of, and amount of, charged services do not interfere with the amount or scheduling of services to public housing and other low-income HOPE VI revitalization development residents. Income from this source is considered to be program income and must be used to further the HOPE VI Neighborhood Networks program.

h. Wage Rates. Laborers and mechanics employed in the development and operation of Neighborhood Networks Centers must be paid Davis-Bacon or HUD-determined prevailing wage rates, respectively, unless they meet the qualifications of a volunteer (see 24 CFR part 70).

i. Energy Star. The Department of Housing and Urban Development has adopted a wide-ranging energy action plan for improving energy efficiency in all program areas. As a first step in implementing the energy plan, HUD, the Environmental Protection Agency and the Department of Energy have formed a partnership to promote energy efficiency in HUD's affordable housing efforts and programs. The purpose of the Energy Star partnership is to promote energy efficiency in affordable housing stock while protecting the environment. Applicants constructing, rehabilitating, or maintaining housing or community facilities are encouraged to promote energy efficiency in design and operations. They are urged especially to purchase and use Energy Star-labeled products. Applicants providing housing assistance or counseling services are encouraged to promote Energy Star building by home buyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937). Persons with hearing or speech impairments can call toll-free through 888-588-9920 (TTY).

j. Communications. Notices of, and communications during, all training sessions and meetings must be effective for persons who have hearing and/or visual disabilities consistent with Section 504 of the Rehabilitation Act of 1973 (29 U.S.C. 794) and its implementing regulations at 24 CFR 8.6.

k. Environmental Requirements. (1) HUD Approval. HUD notification that you have been selected to receive a HOPE VI Neighborhood Networks grant constitutes only preliminary approval. Grant funds may not be released under this NOFA (except for activities that are excluded from environmental review under 24 CFR part 58 or 50) until the responsible entity, as defined in 24 CFR 58.2(a)(7), completes an environmental review and you submit and obtain HUD approval of a request for release of funds and the responsible entity's environmental certification in accordance with 24 CFR part 58 (or HUD has completed an environmental review under 24 CFR part 50 where HUD has determined to do the environmental review).

(2) Responsibility. If you are selected for funding and an environmental review has not been conducted on the targeted site, the responsible entity must assume the environmental review responsibilities for projects being funded by this NOFA. If you object to the responsible entity conducting the environmental review, on the basis of performance, timing, or compatibility of objectives, HUD will review the facts and determine who will perform the environmental review. At any time, HUD may reject the use of a responsible entity to conduct the environmental review in a particular case on the basis of performance, timing, or compatibility of objectives, or in accordance with 24 CFR 58.77(d)(1). If a responsible entity objects to performing an environmental review, or if HUD determines that the responsible entity should not perform the environmental review, HUD may designate another responsible entity to conduct the review or may itself conduct it in accordance with the provisions of 24 CFR part 50. You must provide any documentation to the responsible entity (or HUD, where applicable) that is needed to perform the environmental review.

(3) Phase I and Phase II Environmental Site Assessments. If you are selected for funding, you, and any participant in the development process, must have a Phase I environmental site assessment completed in accordance with the ASTM Standards E 1527-00, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required.

(4) Request for Release of Funds. You and any participant in the development process may not undertake any actions with respect to the project that are choice-limiting or could have environmentally adverse effects, including demolishing, acquiring, rehabilitating, converting, leasing, repairing, or constructing property proposed to be assisted under this NOFA. Also, you and any participant in the development process may not commit or expend HUD or local funds for these activities until HUD has approved a Request for Release of Funds following a responsible entity's environmental review under 24 CFR part 58, or until HUD has completed an environmental review and given approval for the action under 24 CFR part 50. In addition, you must carry out any mitigating/remedial measures required by the responsible entity (or HUD). If a remediation plan, where required, is not approved by HUD and a fully funded contract with a qualified contractor licensed to perform the required type of remediation is not executed, HUD reserves the right to determine that the grant is in default.

(5) HUD's environmental Web site is located at http://www.hud.gov/offices/cpd/energyenviron/environment/index.cfm.

l. Site Control. If new construction, renovation, conversion, or repair is done off of the public housing project site, before start of construction, you must provide documentation that its procured developer or owner entity has control of the proposed property for at least 15 years. Control can be demonstrated through a lease agreement, ownership documentation, or other appropriate documentation.

m. Lead-Based Paint. You must comply with lead-based paint testing and abatement requirements of the Lead-Based Paint Poisoning Prevention Act (42 U.S.C. 4821, et seq.). You must also comply with regulations at 24 CFR part 35, 24 CFR 965.701, and 24 CFR 968.110(k), as they may be amended or revised from time to time. Unless otherwise provided, you will be responsible for testing and abatement activities. The National Lead Information Hotline is 800-424-5323.

n. The following subsections of Section III of the SuperNOFA are hereby incorporated by reference:

(1) The Americans with Disabilities Act of 1990;

(2) Affirmatively Furthering Fair Housing;

(3) Economic Opportunities for Low- and Very Low-Income Persons (Section 3);

(4) Executive Order 13166, Improving Access to Services for Persons With Limited English Proficiency (LEP);

(5) Accessible Technology;

(6) Procurement of Recovered Materials;

(7) Participation in HUD-Sponsored Program Evaluation;

(8) Executive Order 13202, Preservation of Open Competition and Government Neutrality Towards Government Contractors' Labor Relations on Federal and Federally Funded Construction Projects;

(9) OMB Circulars and Government-wide Regulations Applicable to Financial Assistance Programs; and

(10) Drug-Free Workplace.

4. Requirements and Procedures Applicable to All Programs

a. The following subsections of Section III of the SuperNOFA are hereby incorporated by reference:

(1) Statutory and Regulatory Requirements; and

(2) Ineligible Applicants.

b. Salary Limitation for Consultants. FY2003 funds may not be used to pay or to provide reimbursement for payment of the salary of a consultant whether retained by the federal government or the grantee at more than the daily equivalent of the rate paid for level IV of the Executive Schedule, unless specifically authorized by law.

IV. Application and Submission Information

A. Addresses To Request Application Package

1. This section describes how a PHA may obtain application forms, additional information about HUD program NOFAs, and technical assistance. Copies of the published NOFAs and application forms for HUD programs announced via NOFA may be downloaded from the following Web site: http://www.grants.gov/Find or obtained by calling HUD's NOFA Information Center at 800-HUD-8929. Persons with speech or hearing impairments may call 800-877-8339.

a. Application Kits. There are no application kits for our programs this year. All the information you need to apply will be in the NOFA and available on the Internet.

b. The published Federal Register document is the official document that HUD uses to evaluate applications. Therefore, if there is a discrepancy between any materials published by HUD in its Federal Register publications and other information provided on the Internet or in paper copy, the Federal Register publication prevails. Please be sure to review your application submission against the requirements in the Federal Register file of the NOFA.

B. Content and Form of Application Submission

1. Maximum Length of Application

a. There are two narrative portions of the application: the Rating Factor Response and the HOPE VI Neighborhood Networks Plan. The maximum length of each of the two above narratives is 15 pages, for a total of 30 pages. Any pages after the first 15 for each of the narrative sections will not be reviewed. Although submitting pages in excess of the page limitations will not disqualify an application, HUD will not consider the information on any excess pages, and may result in a lower score or failure of a threshold. Text submitted at the request of HUD to correct a technical deficiency will not be counted in the page limit.

The narratives must be double-spaced on 8½ × 11-inch paper, with a minimum font size of Times New Roman 12 point and one-inch margins on all four sides of the page. Oversized pages will be counted as two pages. Single-spaced pages will be counted as two pages. Tables or columns are permitted to be single-spaced. Each 15-page maximum does not include forms required by the NOFA, including the HOPE VI Neighborhood Networks Plan Guide or supporting documentation, e.g., commitment and support letters.

b. Supporting Documentation: Supporting documentation is limited to 50 documents or 100 pages, whichever is less. If more than one reduced-size image of a page is included on one page, the page will count as two pages. Supporting documentation is limited to third-party correspondence and applicant commitment documents that are signed by the executive director or a board member.

c. You should make every effort to submit only that supporting documentation which is necessary.

2. Number of Applications Permitted

Each applicant may submit only one application.

3. Joint Applications

Joint applications are not permitted. However, you may enter into subgrant agreements with procured developers, other HOPE VI partners, nonprofit organizations, or state or local governments to perform the activities proposed under the application.

4. Exceeding the Maximum Number of Pages

There maximum length of each narrative portion of the application is 15 pages. For each of the narrative portions of the application, any pages in addition to the first 15 will not be reviewed. Although submitting pages in excess of the page limitations will not disqualify an application, HUD will not consider the information on any excess pages, and may result in a lower score or failure of a threshold. Text submitted at the request of HUD to correct a technical deficiency will not be counted in the 15-page limits.

5. Application Components

a. The Grant Application Detailed Budget (HUD-424-CB) contains information that will assist you in developing your application. To assist you in filling out the form, HUD has available for your voluntary use a Grant Application Detailed Budget Worksheet (HUD-424-CBW) and Grant Application Detailed Budget Worksheet Instructions (HUD-424-CBWI). They can be downloaded from http://www.grants.gov/Find.

b. The application is to be set up as follows:

Front of Application:

• Acknowledgment of Application Receipt (Form HUD-2993);

• Application for Federal Assistance (Form SF-424)

Tab 1: Response for Rating Factor 1:

• Rating Factor Response Narrative

• Specific Neighborhood Networks Plan and Document References

Tab 2: Response for Rating Factor 2:

• Rating Factor Response Narrative

• Specific Neighborhood Networks Plan and Document References

Tab 3: Response for Rating Factor 3:

• Rating Factor Response Narrative

• Specific Neighborhood Networks Plan and Document References

Tab 4: Response for Rating Factor 4:

• Document References

Tab 5: Response for Rating Factor 5:

• Rating Factor Response Narrative

• Specific Neighborhood Networks Plan and Document References

Tab 6: Response for Rating Factor 6:

• Regulatory Barriers Questionnaire (Form HUD-27300);

Tab 7: Neighborhood Networks Plan:

• Neighborhood Networks Plan (based on Form HUD-52775);

Tab 8: Leverage Commitment Documents:

• Letters/MOUs from Partners attesting to leverage donations

Tab 9: Forms and Certifications:

• Applicant Assurances and Certifications (Form HUD-424B)

• Grant Application Detailed Budget (Form HUD-424-CB)

• Grant Application Detailed Budget Worksheet (Form HUD-424-CBW)

• Applicant/Recipient Disclosure/Update Report (Form HUD-2880)

• Disclosure of Lobbying Activities (SF-LLL)—if applicable

• Logic Model (Form HUD-96010)

c. Place the application in a three ring binder and package it as securely and simply as possible.

6. Match

a. Documentation to demonstrate that match donations are firmly committed include letters of commitment or Memoranda of Understanding (MOUs) that are on organization letterhead and are signed by a person authorized to make the stated commitment, whether it be in cash or in-kind services. The letters of commitment/MOUs must indicate the annual level and/or amount of commitment in dollars and indicate how the commitment will relate to the proposed program.

b. If you propose to use your own, non-public housing grant funds to meet the match requirement, a document from you that states how the match relates to your Neighborhood Networks program must be included in the application and signed by the authorized person.

c. The letters of commitment/MOUs must be dated no earlier than 90 days prior to the publication date of this NOFA.

d. You shall annotate the HUD-424-CB, Grant Application Detailed Budget, listing the sources and amount of each match.

7. Rating Factor Format

The only narrative portions of the application are your response to the rating factors and the Plan. An executive summary is not necessary. To ensure proper credit for information applicable to each rating factor, you should include page-number references to the Plan, forms, and supporting documentation in the rating factor responses. Your rating factor responses should be as descriptive as possible, ensuring that every requested item is addressed. You should make sure to include all requested information, according to the instructions of this NOFA. This will help ensure fair and accurate review of your application. Although information from all parts of the application will be taken into account in rating the various factors, if supporting information cannot be found by the reviewer, it cannot be used to support a factor's rating.

8. Rating Factor Documentation

a. References to the Neighborhood Networks Plan. (1) When writing your factor narrative, you should reference information in your Plan. The purpose of including references to the Plan in your factor narrative is to increase the amount of information you can include in the factor narrative, which is limited in length. It is NOT necessary to repeat in the factor narratives the information that you included in your Plan.

(2) Each reference to the Plan should be specific. Each reference should include a table name or a one- or two-word subject that the reference applies to and the page number of the Plan where the referenced information can be found. More than one specific reference to the Plan may, and probably should, be included for any one subject or factor's narrative.

b. Knowledge and Experience. (1) Documentation that demonstrates staff experience and knowledge may include:

(a) Lists of contracts, grants, or program descriptions from contractors, subgrantees and partners;

(b) Resumes of current in-house staff listing programs that they worked on;

(c) Neighborhood Networks program descriptions;

(d) Digital training program descriptions;

(e) Community and social services program descriptions;

(f) Course lists;

(g) Participant completion certificates or lists;

(h) Attendance rosters;

(i) Third-party evaluation data and reports; and

(j) Other documentation showing participation and/or outcomes.

c. Staff Capacity. Documentation that demonstrates staff capacity may include:

(1) The number of hours per week that in-house staff who were included in the documentation of the knowledge and experience subfactor will devote to the Neighborhood Networks program;

(2) MOUs or letters of commitment that include resumes of key staff and starting dates;

(3) Employment agreements that include resumes and starting dates; and

(4) Other documents that include such information.

d. Program Administration and Fiscal Management. (1) Documentation that demonstrates program administration and fiscal management MUST include:

(a) A description of the procurement system structure that you have in place, including internal controls;

(b) A description of the fiscal management structure that you have in place, including fiscal controls and internal controls;

(c) A summary of the results of the last available annual external, independent audit, including findings, if any;

(d) A list of any findings issued or material weaknesses concerning PHA operations found by HUD or other federal or state agencies. A description of how you addressed the findings and/or weaknesses. If no findings or material weaknesses exist, include a statement to that effect in the narrative; and

(e) A description of your management control structure, including management roles and responsibilities and evidence that your management is results-oriented, e.g., that it has existing production, rental, and maintenance goals.

e. Need/Extent of the Problem. Documentation of need should include:

(1) The sources of the data that you used to contrast the number of public housing residents in the existing or proposed NNC's surrounding community to availability of no-cost Neighborhood Networks type training currently in the surrounding community.

(2) A list and explanation of Neighborhood Networks and Community and Supportive Services (CSS) needs as they apply to the related HOPE VI development's public housing residents;

(3) Specific plan references to data on public housing residents; and

(4) Information on the lack of Neighborhood Networks-related training programs currently available and easily accessible to public housing residents in the surrounding community. List no-cost training that is available through either the PHA or other local or state community organizations, including schools and libraries.

f. Specific Services and/or Activities. You should describe, or reference the Plan description of, the following areas:

(1) How partners are integrated into grant period and grantee activities are sustained;

(2) How staff roles relate to planned courses for paid and volunteer staff;

(3) How temporary and permanently relocated residents will be linked to the NNC;

(4) How computer and Internet knowledge relates to obtaining community and supportive services;

(5) What generally accepted training certifications will be offered to participants;

(6) How training courses build upon one another to teach residents job hunting and employment skills; and

(7) How training courses that build upon one another teach residents to use computers and the Internet to provide themselves with community and supportive services.

g. Commitment Letters. Commitment letters/MOU must be submitted to HUD with the NOFA application. If a commitment document is not included in the application, the donation will not be counted toward this factor. Missing commitment documents are not considered “technical deficiencies” and cannot be submitted during the technical deficiencies cure period after the application due date.

(1) Documentation to demonstrate that leverage is “firmly committed.”

(a) “Firmly committed” means that the amount of leverage resources and their dedication to Neighborhood Networks activities must be explicit, in writing, and signed by a person authorized to make the commitment. Letters of commitment or Memoranda of Understanding (MOUs) must be on organization letterhead and signed by a person authorized to make the stated commitment whether it be in cash or in-kind services. The letters of commitment/MOUs must indicate the annual level and/or amount of commitment in dollars, the number of days after grant award at which the cash or in-kind services will be available, the duration of in-kind services, and how the commitment will relate to the proposed Neighborhood Networks program. The letters of commitment/MOUs must be dated no earlier than 90 days prior to the publication date of this NOFA.

(2) You shall annotate the HUD-424-CB to list the sources and amount of each donation. Note that public housing funds of any kind are not an eligible donation. Applicant staff time is not an eligible donation.

h. Achieving Results and Evaluation Methods. (1) Your narrative should identify what you are going to measure, how you are going to measure it, and the steps you have in place to adjust your plans if outcomes are not met within established time frames.

(2) You must complete and include the Logic Model (Form HUD-96010) in your application.

i. Incentive Criteria on Regulatory Barrier Removal. You must include the completed Form HUD-27300 in your application.

9. HOPE VI Neighborhood Networks Plan Information

Your HOPE VI Neighborhood Networks Plan, which is based upon the Neighborhood Networks Plan Guide, Form HUD-52775, contains a large amount of information that applies to your rating factors. Page references to the Plan should be included where similar information is presented in the Rating Factor narrative of the NOFA. It is not necessary to repeat the text of the Plan information in other parts of the application.

C. Submission Dates and Times

1. Application Due Date. The application due date is September 8, 2004. See the General Section of the SuperNOFA for application, submission and timely receipt requirements.

2. No Facsimiles or Videos. HUD will not accept for review and evaluation, or funding, any applications sent by facsimile (fax). However, facsimile corrections to technical deficiencies will be accepted, as described in Section V.B.1.b. of this NOFA. Also, videos submitted as part of an application will not be viewed.

3. See Section IV.F.1. of this NOFA for the application submission address.

D. Intergovernmental Review

Executive Order 12372, Intergovernmental Review of Federal Programs. Executive Order 12372 was issued to foster intergovernmental partnership and strengthen federalism by relying on state and local processes for the coordination and review of federal financial assistance and direct federal development. HUD implementing regulations are published in 24 CFR part 52. Executive Order 12372 allows each state to designate an entity to perform a state review function. The official listing of state points of contact (SPOCs) for this review process can be found at http://www.whitehouse.gov/omb/grants/spoc.html. States not listed on the Web site have chosen not to participate in the intergovernmental review process and, therefore, do not have a SPOC. If your state has a SPOC, you should contact the SPOC to see if it is interested in reviewing your application prior to submission to HUD.

Please make sure that you allow ample time for this review process when developing and submitting your applications. If your state does not have a SPOC, you may send applications directly to HUD.

E. Funding Restrictions

1. Statutory Obligation Period. Funds available through this NOFA must be obligated on or before September 30, 2004.

2. Transfer of Funds. HUD does not have the discretion to transfer funds available through this NOFA to any other program, grant, or area of your current HOPE VI grant.

3. Limitation on Eligible Expenditures. Expenditures on services, equipment, and physical improvements must directly relate to NNC activities.

4. Ineligible Activities. The following activities are not allowed:

a. Payment of wages and/or salaries to participants receiving supportive services and/or training programs;

b. Purchase or rental of land;

c. Purchase or rental of vehicles;

d. Security guard services;

e. Purchase or rental of telephones and telephone services for general use by the program participants;

f. Cost of application preparation;

g. Charging for services to public housing/HOPE VI development residents and Family Self-Sufficiency (FSS) participants; and

h. Incurring other costs that are not allowable under the HOPE VI program, in accordance with Section 24 of the 1937 Act (42 U.S.C. 1437v), as added by Section 535 of the Quality Housing and Work Responsibility Act of 1998 (Pub. L. 105-276, 112 Stat. 2461, approved October 21, 1998), as amended, and the HOPE VI Grant Implementation Guidebook, dated October 1999, as amended, and that are not stated as allowable under this NOFA.

5. Pre-Award Activities. Award funds may not be used to reimburse pre-award expenses.

6. Administrative Costs. Administrative costs must adhere to OMB Circular A-87. Administrative costs are included in, and will be reviewed with, your budget.

7. Environmental Reviews. The costs of environmental reviews and hazard remediation are eligible costs under the HOPE VI program.

F. Other Submission Requirements

1. Address for Submitting Applications. Send the original and one copy of your completed application to Mr. Milan Ozdinec, Deputy Assistant Secretary for Public Housing Investments, Department of Housing and Urban Development, 451 Seventh Street, SW., Room 4130, Washington, DC 20410-5000. Please make sure that you note the room number. The correct room number is very important in ensuring that your application is properly accepted and not misdirected.

2. Applications mailed to the wrong location or office designated for receipt of the application, which result in the designated office not receiving your application in accordance with the requirements for timely submission, will result in your application being considered late and will not receive funding consideration. HUD will not be responsible for directing packages to the appropriate office(s).

3. See Section IV.F. of the SuperNOFA for requirements concerning timeliness of submission and method of delivery.

4. SuperNOFA References. The following subsections of Section IV of the SuperNOFA are hereby incorporated by reference:

(1) Addresses to Request Application Package;

(2) Application Kits;

(3) Guidebook and Further Information;

(4) Delivery and Receipt Procedures;

(5) Proof of Timely Submission; and

(6) Addresses.

V. Application Review Information

A. Criteria (Factors)

1. Rating Factor 1: Capacity of the Applicant and Relevant Organizational Staff (22 Points)

This factor addresses whether you have the organizational resources necessary to successfully implement the proposed activities within the grant period. In rating this factor, HUD will consider the extent to which the proposal demonstrates that you will have qualified and experienced staff dedicated to administering the program.

a. Knowledge and Experience (8 Points)

(1) Description. Your current capacity to complete the requirements of the NOFA is based upon the demonstrated knowledge and experience of your proposed NNC coordinator, staff, contractors, subgrantees, and other partners in planning and successfully managing programs similar to the Neighborhood Networks program for which funding is being requested. Experience will be judged in terms of recent, relevant, and successful experience of your team to undertake eligible program activities. In rating this factor, HUD will consider experience within the last 3 years to be recent; experience should relate to specific activities and specific accomplishments. You must provide documentation of knowledge, experience, and success. See Section IV.B.8.b of this NOFA for documentation requirements for this factor.

(2) Scoring: (a) If your proposed team has demonstrated knowledge and experience working in both computer-related and supportive service programs, and that experience is shown to be successful in supporting documentation, you may receive up to 8 points.

(b) If your proposed team demonstrates that it has knowledge and experience in both computer-related and supportive service areas, but does not have documentation that shows successful outcomes, you may receive up to 6 points.

(c) If your team has demonstrated knowledge and experience in only one area, but does not have documented success, you may receive up to 2 points for this subfactor.

(d) If your team cannot demonstrate knowledge and successful experience in either area, you will receive a score of zero points for this subfactor.

b. Staff Capacity (7 Points)

(1) Description. You will be evaluated based on whether you, your contractors, subgrantees, and partners have sufficient experienced and knowledgeable personnel, or will be able to quickly access enough qualified experts or professionals to deliver the proposed activities in a timely and effective fashion. Knowledge and experience must be documented. See Section IV.B.8.c of this NOFA for documentation requirements for this factor.

(2) Scoring: (a) If you have staff and partners in place to begin the proposed grant at full effort between the grant award date and three months after award, you will receive up to a maximum of 7 points;

(b) If your proposal includes a plan to have staff and partners in place to begin the proposed work between three and six months after grant award, you will receive up to a maximum of 6 points;

(c) If your proposal includes a plan to have staff and partners in place to begin the proposed work between six and nine months after grant award, you will receive up to a maximum of 4 points;

(d) If your proposal includes a plan to have staff and partners in place to begin the proposed work between nine and 12 months after grant award, you will receive up to a maximum of 2 points; and

(e) If your proposal includes a plan to have the staff and partners in place later than 12 months after award, you will receive zero points.

c. Program Administration and Fiscal Management (7 Points)

(1) Description. Describe how you will manage the program; how HUD can be sure that there is program and financial accountability; and describe staff/team members' roles and responsibilities. See Section IV.B.8.d. of this NOFA for documentation requirements for this factor.

(2) Scoring: (a) If you show fiscal management controls, a procurement system and a results-oriented management structure that are adequate to manage a grant from this NOFA, and you do not have any outstanding Inspector General (IG) findings related to the Capital Fund Program or HOPE VI, you will receive up to 7 points;

(b) If you show fiscal management controls, a procurement system and management structure and controls that are adequate to manage a grant from this NOFA, but you do not demonstrate that your management structure and controls are results-oriented, and you do not have any outstanding findings, you will receive up to 5 points;

(c) If you show fiscal management controls, a procurement system and management structure and controls that are adequate to manage a grant from this NOFA, and you have outstanding findings that have not been addressed and closed, you will receive up to 2 points;

(d) If you do not describe your program management structure and fiscal management controls and show that they are adequate, you will receive 0 points.

2. Rating Factor 2: Need/Extent of the Problem (8 Points)

a. Description. (1) This factor addresses the extent to which there is a need for funding your proposed program and your indication of the importance of meeting the need in the target area. In responding to this factor, you will be evaluated on the extent to which you describe and document the level of need for your proposed activities and the urgency in meeting the need.

(2) Contrast the number of public housing residents in the area around the existing or proposed NNC to availability of no-cost Neighborhood Networks type training currently in the surrounding community.

(3) See Section IV.B.8.e of this NOFA for documentation requirements for this factor.

b. Scoring: (1) If there are no computer and Internet facilities available in the HOPE VI development's surrounding community to address the needs of the public housing residents, you may receive from 7 to 8 points;

(2) If computer and Internet facilities available in the HOPE VI development's surrounding community are only sufficient to address the needs of between 1 and 25 percent of the public housing residents, you may receive from 5 to 6 points;

(3) If computer and Internet facilities available in the HOPE VI development's surrounding community are only sufficient to address the needs of between 26 and 50 percent of the public housing residents, you may receive from 3 to 4 points; and

(4) If computer and Internet facilities available in the HOPE VI development's surrounding community are only sufficient to address the needs of 51 to 75 percent of the public housing residents, you may receive from 1 to 2 points; and

(5) If there are sufficient computer and Internet facilities available in the HOPE VI development's surrounding community to fulfill the needs of your public housing residents, you will receive 0 points.

3. Rating Factor 3: Soundness of Approach (30 Points)

This factor addresses both the quality and cost-effectiveness of your program, as presented in your rating factor responses and your Plan. Your factor responses must indicate a clear relationship between your proposed activities, the targeted population's needs, and the purpose of the program funding. You should include references to your Plan.

a. Specific Services and/or Activities (24 Points)

(1) Description. This factor addresses the services and courses that you are going to include in your Neighborhood Networks program and their beneficiaries. You must describe the specific services and activities you plan to offer, who will benefit from them and how they will benefit from them. Tie specific services/activities to specific sub-groups, including persons with disabilities, within the target group. Your rating factor response must indicate the types of activities and training programs you will offer which can help residents successfully transition from welfare to work, earn higher wages and/or be able to graduate from use of the public housing program. See Section IV.B.8.f of this NOFA for documentation requirements for this factor.

(2) Scoring: (a) If all seven of the areas listed in Section IV.B.8.f of this NOFA are addressed and fulfill the needs of your public housing residents, you will receive up to 24 points;

(b) If six of the areas listed in Section IV.B.8.f of this NOFA are addressed and fulfill the needs of your public housing residents, you will receive up to 20 points;

(c) If five of the areas listed in Section IV.B.8.f of this NOFA are addressed and fulfill the needs of your public housing residents, you will receive up to 16 points;

(d) If four of the areas listed in Section IV.B.8.f of this NOFA are addressed and fulfill the needs of your public housing residents, you will receive up to 12 points;

(e) If three of the areas listed in Section IV.B.8.f of this NOFA are addressed and fulfill the needs of your public housing residents, you will receive up to 8 points;

(f) If two of the areas listed in Section IV.B.8.f of this NOFA are addressed and fulfill the needs of your public housing residents, you will receive up to 4 points;

(g) If less than two of the areas listed in Section IV.B.8.f of this NOFA are addressed and fulfill the needs of your public housing residents, you will receive 0 points;

b. Feasibility (6 Points)

(1) Description. This factor examines whether your overall application is logical, feasible, and likely to achieve its stated purpose during the term of the grant. You will be evaluated based on whether your application shows that you can communicate well with your public housing residents regarding computers and the Internet, whether you are using a logical approach in planning and implementing the program and whether the amount of funds requested is commensurate with the level of effort necessary to accomplish your goals and anticipated results.

(2) Scoring: (a) If your application shows financial feasibility, the ability to work with the target group of residents and low-income families, a logical plan to provide training courses, and that the amount of requested funds is commensurate with the level of effort necessary to accomplish your goals and anticipated results, you will receive up to 6 points.

(b) If your application shows financial feasibility and the ability to work with the target group of residents and low-income families, you will receive up to 4 points.

(c) If your application shows only financial feasibility, you will receive up to 2 points.

(d) If your application as a whole is not logical and shows poor planning, you will receive zero points.

4. Rating Factor 4: Leveraging Resources (25 Points)

a. Description. (1) This factor addresses your ability to secure community resources that can be combined with HUD's grant resources to achieve program purposes. In rating this factor, HUD will look at the extent to which your partner, coordinates, and leverages your services with other organizations serving the same or similar populations.

(2) Leverage Description and Requirements.

(a) Leverage may be cash or other resources/services that can be donated and may include: in-kind services, contributions, or administrative costs provided to you; funds from federal sources (not including public housing/HOPE VI funds) as allowed by statute, including for example, CDBG; funds from any state or local government sources; and funds from private contributions.

(b) Leverage funds and in-kind services (“donations”) must be firmly committed. See Section IV.B.8.g for documentation requirements to demonstrate firm commitment.

(c) Public housing funds of any kind are not an eligible donation. Applicant staff time is not an eligible donation.

(d) Points for this factor will be awarded based on the documented evidence of partnerships and firm commitments and the ratio of requested funding to the total proposed grant budget.

(e) Matching funds cannot be counted toward your leverage amount. Five percent of the leverage amount stated in your application will be subtracted in calculating your leverage amount to avoid double counting match funds.

(f) See Section IV.B.8.g for documentation requirements for this factor.

b. Scoring: (1) Points will be assigned based on the following scale:

Leverage as percent of grant amount | Points awarded
Less than 25 percent | 0 points.
25 but less than 50 percent | 7 points.
50 but less than 100 percent | 16 points.
100 or more | 25 points.

5. Rating Factor 5: Achieving Results and Evaluation Methods (13 Points)

a. Description. (1) Under this rating factor, you must demonstrate how they propose to measure their success and outcomes. This rating factor requires that you identify goals, interim and final program outcomes, and their time frames. Examples of outcomes are: increasing the homeownership rates among participants, increasing participants' financial stability (e.g., increasing assets of a household through savings), or increasing employment stability (e.g., whether persons assisted obtain or retain employment for one or two years during participation).

(2) Performance indicators should be objectively quantifiable and measure actual achievements against anticipated achievements.

(3) See Section IV.B.8.h of this NOFA for documentation requirements.

b. Scoring: (1) If you show interim and final measurable outcomes, with time frames, for each of several participant sub-groups, and show plans for adjusting your program, you will receive up to 13 points.

(2) If you show interim and final measurable outcomes, with time frames, but without plans for adjusting your program, you will receive up to 8 points.

(3) If you show interim and final measurable outcomes, but without time frames and plans for adjusting your program, you will receive up to 4 points.

(4) If you do not show interim and final measurable outcomes you will receive zero points.

6. Rating Factor 6: Incentive Criteria on Regulatory Barrier Removal (2 Points)

a. Description. (1) HUD's Notice, America's Affordable Communities Initiative, HUD's Initiative on Removal of Regulatory Barriers: Announcement of Incentive Criteria on Barrier Removal in HUD's FY 2004 Competitive Funding Allocations, Federal Register Docket Number FR-4882-N-03, published on March 22, 2004, provides that most of HUD's competitive NOFAs will include an incentive for local and state governments to decrease their regulatory barriers to the development of affordable housing.

(2) Form HUD-27300 contains questions that describe your local and state governments' efforts to decrease regulatory barriers.

b. Scoring: (1) If you are considered a local unit of government with land use and building regulatory authority, an agency or department of a local unit of government, a nonprofit organization, or other qualified applicant applying for funding for a project located in the local unit of government's jurisdiction, you are invited to answer the 20 questions in Part A of Form HUD-27300. For those applications in which regulatory authority is split between jurisdictions (e.g., county and town), the applicant should answer the question for that jurisdiction that has regulatory authority over the issue in question.

(a) If you answer “yes” in Column 2 for five to ten questions from Part A, you will receive one point in the NOFA evaluation.

(b) If you answer “yes” in Column 2 for eleven or more questions from Part A, you will receive two points in the NOFA evaluation.

(2) If you are considered a state government, or an agency or department of a state government, applying for funding for a project located in the state government's jurisdiction, or areas otherwise not covered in Part A, you are invited to answer the 15 questions in Part B.

(a) If you answer “yes” in Column 2 for four to seven questions from Part B, you will receive one point in the NOFA evaluation.

(b) If you answer “yes” in Column 2 for eight or more questions from Part B, you will receive two points in the NOFA evaluation.

(3) Applicants that will be providing services in multiple jurisdictions may choose to address the questions in either Part A or Part B for that jurisdiction in which the preponderance of services will be performed if an award is made.

(4) In no case will an applicant receive for this policy priority greater than two points for barrier removal activities.

B. Review and Selection Process

HUD's selection process is designed to ensure that grants are awarded to eligible PHAs with the most meritorious applications.

1. Application Screening. a. HUD will screen each application to determine if:

(1) It meets the threshold criteria listed in Section III.C of this NOFA; and

(2) It is deficient, i.e., contains any technical deficiencies. Omissions or incorrect/omitted signatures of the forms and certifications listed under Tab 9 in Section IV.B.5.b. of this NOFA are considered technical deficiencies.

b. Corrections to Deficient Applications. The subsection entitled, “Corrections to Deficient Applications,” in Section V.B. of the SuperNOFA applies, except that clarifications or corrections of technical deficiencies in accordance with the information provided by HUD must be submitted within seven calendar days of the date of receipt of the HUD notification.

c. Applications that will not be rated or ranked. HUD will not rate or rank applications that are deficient at the end of the cure period stated in Section V.B.1.b. of this NOFA or have not met the thresholds described in Section III.C of this NOFA. Such applications will not be eligible for funding.

2. Preliminary Rating and Ranking.

a. Rating.

(1) HUD staff will preliminarily rate each eligible application, solely on the basis of the rating factors described in Section V.A. of this NOFA.

(2) When rating applications, HUD reviewers will not use any information included in any HOPE VI application submitted in a prior year.

(3) HUD will assign a preliminary score for each rating factor and a preliminary total score for each eligible application.

(4) The maximum number of points for each application is 100.

b. Ranking.

(1) After preliminary review, applications will be ranked in score order.

3. Final Panel Review.

a. A Final Review Panel made up of HUD staff will:

(1) Review the preliminary rating and ranking documentation to:

(a) Ensure that any inconsistencies between preliminary reviewers have been identified and rectified; and

(b) Ensure that the preliminary rating and ranking documentation accurately reflects the contents of the application.

(2) Assign a final score to each application; and

(3) Recommend for selection the most highly rated applications, subject to the amount of available funding, in accordance with the allocation of funds described in Section II of this NOFA.

4. HUD reserves the right to make reductions in funding for any ineligible items included in an applicant's proposed budget.

5. In accordance with the FY2003 HOPE VI appropriation, HUD may not use HOPE VI funds to grant competitive advantage in awards to settle litigation or pay judgments.

6. Tie Scores. If two or more applications have the same score and there are insufficient funds to select all of them, HUD will select for funding the application(s) with the highest score for the Soundness of Approach Rating Factor. If a tie remains, HUD will select for funding the application(s) with the highest score for the Capacity Rating Factor. HUD will select further tied applications with the highest score for the Need Rating Factor.

7. Remaining Funds.

a. HUD reserves the right to reallocate remaining funds from this NOFA to other eligible activities under Section 24 of the Act.

(1) If the total amount of funds requested by all applications found eligible for funding under Section V.B. of this NOFA is less than the amount of funds available from this NOFA, all eligible applications will be funded and those funds in excess of the total requested amount will be considered remaining funds.

(2) If the total amount of funds requested by all applications found eligible for funding under Section V.B. of this NOFA is greater than the amount of funds available from this NOFA, eligible applications will be funded until the amount of non-awarded funds is less than the amount required to feasibly fund the next eligible application. In this case, the funds that have not been awarded will be considered remaining funds.

8. Additional Funds. HUD, at its discretion, may award funds above the requested grant amount to applications that present a grant program that demonstrates that the additional funds can and will be expended efficiently and effectively.

9. The following subsections of Section V. of the SuperNOFA are hereby incorporated by reference:

a. HUD's Strategic Goals;

b. Policy Priorities;

c. Threshold Compliance;

d. Corrections to Deficient Applications;

e. Rating; and

f. Ranking.

VI. Award Administration Information

A. Award Notices

1. Initial Announcement. The HUD Reform Act prohibits HUD from notifying you whether or not you have been selected to receive a grant until it has announced all grant recipients. If your application has been found to be ineligible or if it did not receive enough points to be funded, you will not be notified until the successful applicants have been notified. HUD will provide written notification to all applicants, whether or not they have been selected for funding.

2. Authorizing Document. The notice of award signed by the Assistant Secretary for Public and Indian Housing (grants officer) is the authorizing document. This notice will be delivered via fax and the U.S. Postal Service.

3. Applicant Debriefing. Upon request, HUD will provide an applicant a copy of the total score received by their application and the score received for each rating factor.

4. SuperNOFA References. The following subsections of Section VI.A. of the SuperNOFA are hereby incorporated by reference:

a. Adjustments to Funding; and

b. Debriefing.

B. Administrative and National Policy Requirements

1. Grant term. The time period for completion shall not exceed 54 months from the date the NOFA award is executed.

2. Flood Insurance. In accordance with the Flood Disaster Protection Act of 1973 (42 U.S.C. 4001-4128), your application may not propose to provide financial assistance for acquisition or construction (including rehabilitation) of properties located in an area identified by the Federal Emergency Management Agency (FEMA) as having special flood hazards, unless:

a. The community in which the area is situated is participating in the National Flood Insurance program (see 44 CFR parts 59 through 79), or less than one year has passed since FEMA notification regarding such hazards; and

b. Where the community is participating in the National Flood Insurance Program, flood insurance is obtained as a condition of execution of a grant agreement.

3. Coastal Barrier Resources Act. In accordance with the Coastal Barrier Resources Act (16 U.S.C. 3501), your application may not target properties in the Coastal Barrier Resources System.

4. Final Audit. Grantees are required to obtain a complete final closeout audit of the grant's financial statements by a certified public accountant (CPA), in accordance with generally accepted government audit standards. A written report of the audit must be forwarded to HUD within 60 days of issuance. Grant recipients must comply with the requirements of 24 CFR part 84 or 24 CFR part 85 as stated in OMB Circulars A-110, A-87, and A-122, as applicable.

C. Reporting

1. Periodic Reporting. Grantees will be required to submit Neighborhood Networks information on a quarterly basis. The type of information that will be required is listed within the scope of the HOPE VI Neighborhood Networks Plan Guide, Form HUD-52775. Grantees will furnish this information in the CSS portion of the online HOPE VI quarterly progress report.

2. Logic Model Reporting. The reporting shall include submission of a completed logic model indicating results achieved against the proposed output goal(s) and proposed outcome(s) which you stated in your approved application and agreed upon with HUD. The submission of the logic model and required information should be in accord with the reporting time frames as identified in your grant agreement.

3. Final Report. The grantees shall submit a final report, which will include a financial report and a narrative evaluating the overall performance of its HOPE VI Neighborhood Networks Plan. Grantees shall use quantifiable data to measure performance against goals and objectives outlined in their application. The financial report shall contain a summary of all expenditures made from the beginning to the end of the grant agreement and shall include any unexpended balances. The final narrative and financial report shall be due to HUD 90 days after the full expenditure of funds or when the Neighborhood Networks program activities are complete.

VII. Agency Contacts

A. Technical Assistance

1. Before the application due date, HUD staff will be available to provide you with general guidance and technical assistance. However, HUD staff is not permitted to assist in preparing your application. If you have a question or need a clarification, you may call, fax, or write Mr. Milan Ozdinec, Deputy Assistant Secretary for Public Housing Investments, Department of Housing and Urban Development, 451 Seventh Street, SW., Room 4130, Washington, DC 20410-5000; telephone (202) 401-8812; fax (202) 401-2370 (these are not toll-free numbers). Persons with hearing and/or speech challenges may access these telephone numbers via text telephone (TTY) by calling the toll-free Federal Information Relay Service at (800) 877-8339.

B. Technical Corrections to the NOFA

1. Technical corrections to this NOFA will be posted on the following Web site: www.Grants.gov.

2. Any technical corrections will also be published in the Federal Register.

3. You are responsible for monitoring these sites during the application preparation period.

C. General Information

General information about HUD's Neighborhood Networks program can be found on the Internet at http://www.hud.gov/offices/hsg/mfh/nnw/nnwindex.cfm.

VIII. Other Information

A. SuperNOFA References. The following subsections of Section VIII of the SuperNOFA are hereby incorporated by reference:

1. Executive Order 13132, Federalism;

2. Public Access, Documentation and Disclosure;

4. Section 103 of the HUD Reform Act; and

5. The FY2004 HUD NOFA Process and Future HUD Funding Processes.

B. Environmental Impact. A Finding of No Significant Impact with respect to the environment has been made for this notice in accordance with HUD regulations at 24 CFR part 50 that implement Section 102(2)(C) of the National Environmental Policy Act of 1969 (42 U.S.C. 4332). The Finding of No Significant Impact is available for public inspection between 8 a.m. and 5 p.m. in the Office of the General Counsel, Regulations Division, Room 10276, Department of Housing and Urban Development, 451 Seventh Street, SW., Washington, DC 20410-0500.

C. Paperwork Reduction Act Statement. The information collection requirements contained in this document have been approved by the Office of Management and Budget (OMB), under the Paperwork Reduction Act of 1995 (44 U.S.C. 3501-3520) and assigned OMB Control Number 2577-0208. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, quarterly reports, and final report. The information will be used for grantee selection and monitoring the administration of funds. Response to this request for information is required in order to receive the benefits to be derived.

D. Sense of Congress. It is the sense of Congress, as published in section 409(a) of the Conference Report of HJR 2, that, to the greatest extent practicable, all equipment and products purchased with funds made available in this Act should be American-made.

Dated: July 30, 2004.
Michael Liu,
Assistant Secretary for Public and Indian Housing.

BILLING CODE 4210-33-P

[FR Doc. 04-17885 Filed 8-3-04; 11:10 am]

BILLING CODE 4210-33-C